DEPARTMENT OF COMMERCE

Bureau of the Census

Census Advisory Committee of Professional Associations

AGENCY: Bureau of the Census, Commerce.

ACTION: Notice of public meeting.

SUMMARY: Pursuant to the Federal Advisory Committee Act (Pub. L. 92-463 as amended by Pub. L. 94-409), the Bureau of the Census (Census Bureau) is giving notice of a meeting of the Census Advisory Committee of Professional Associations. The Committee is composed of 36 members appointed by the Presidents of the American Economic Association, the American Statistical Association, the Population Association of America, and the Chairperson of the Board of the American Marketing Association. The Committee advises the Acting Director, Census Bureau, on the full range of Census Bureau programs and activities in relation to their areas of expertise.

DATES: The meeting will convene on October 18-19, 2001. On October 18, the meeting will begin at 9 a.m. and adjourn at 5:15 p.m. On October 19, the meeting will begin at 9 a.m. and adjourn at 12:30 p.m.

ADDRESSES: The meeting will take place at the Sheraton Crystal City Hotel, 1800 Jefferson Davis Highway, Arlington, VA 22202.

FOR FURTHER INFORMATION CONTACT: Maxine Anderson-Brown, Chief, Conference and Travel Management Services Branch, U.S. Census Bureau, Commerce, Room 1647, Federal Building 3, Washington, DC 20233. Her phone number is 301-457-2308, TDD 301-457-2540.

SUPPLEMENTARY INFORMATION: The agenda for the meeting on October 18, which will begin at 9 a.m. and adjourn at 5:15 p.m., is as follows:

• Introductory Remarks by the Acting Director, Census Bureau, and the Principal Associate Director for Programs, Census Bureau

• Census Bureau Responses to Committee Recommendations

• Executive Steering Committee for Accuracy and Coverage Evaluation Policy Update

• 2002 Economic Censuses Update

• Census 2000 Update

• American Community Survey and Economic Analysis Update

• 2010 Census Planning—Next Steps

• E-Business Infrastructure

• Census 2000 Supplementary Survey Data Overview

• Services Sector Data: What We Have and What We Need

• Census 2000 Experiments—Results

The agenda for the meeting on October 19, which will begin at 9 a.m. and adjourn at 12:30 p.m., is as follows:

• Chief Economist Update

• Interviewer Refusal Aversion Training

• Promoting Business Response to the 2002 Economic Census

• Unit Level Models for Small Area Estimation: Applications to Census Adjustment of Small Areas and Small Area Estimation for the American Community Survey

The meeting is open to the public, and a brief period is set aside, during the closing session, for public comment and questions. Those persons with extensive questions or statements must submit them in writing to the Census Bureau Committee Liaison Officer, at least three days before the meeting. Seating is available to the public on a first-come, first-served basis. Individuals wishing additional information or minutes regarding this meeting may contact the Liaison Officer as well. Her address and phone number are identified under this notice's FOR FURTHER INFORMATION CONTACT heading.

This meeting is physically accessible to people with disabilities. Requests for sign language interpretation or other auxiliary aids should also be directed to the Chief, Conference and Travel Management Services Office.

Dated: September 21, 2001.
William G. Barron, Jr.,
Acting Director, Bureau of the Census.

[FR Doc. 01-24275 Filed 9-27-01; 8:45 am]

BILLING CODE 3510-07-P